DEPARTMENT OF HEALTH AND HUMAN SERVICES

Administration for Children and Families

Proposed Information Collection Activity; Comment Request Title: Evaluation of the Child Welfare Capacity Building Collaborative: Part Two

OMB No.: New Collection.

Description

The purpose of this evaluation is to respond to a set of cross-cutting evaluation questions posed by the Children's Bureau. This new data collection is the second part of a larger data collection effort being conducted for the evaluation of the Child Welfare Capacity Building Collaborative. The first group of instruments for this evaluation has already been submitted, and a request for clearance has been submitted to the Office of Management and Budget (see Federal Register Volume 80, No. 211, November 2, 2015 and Federal Register Volume 81, No. 41, March 2, 2016). This notice details the second group of instruments that will be used for data collection as part of this evaluation. The Evaluation of the Child Welfare Capacity Building Collaborative is sponsored by the Children's Bureau, Administration for Children and Families of the U.S. Department of Health and Human Services. The Capacity Building Collaborative includes three centers (Center for States, Center for Tribes, Center for Courts) funded by the Children's Bureau to provide national child welfare expertise and evidence-informed training and technical assistance services to State, Tribal and Territorial public child welfare agencies and Court Improvement Programs (CIP). The Centers offer a wide array of services including, but not limited to: Web-based content and resources, product development and dissemination, self-directed and group-based training, virtual learning and peer networking events, and tailored consultation and coaching. During the project period the Centers' services will be evaluated by both Center-specific evaluations and a Cross-Center Evaluation. The Center-specific evaluations are designed to collect data on Center-specific processes and outcomes.

The Cross-Center Evaluation will examine: The extent to which key partners across and within the Centers are collaborating; whether the capacity building service interventions offered by the Centers are evaluable; the degree to which Centers follow common protocols; whether service interventions are delivered or performed as designed; how satisfied recipients are with the services received; how effective the service interventions were; which service approaches were most effective and under what conditions; and the costs of services. The Cross-Center Evaluation is utilizing a longitudinal mixed methods approach to evaluate the Centers' services as they develop and mature over the course of the study period.

Multiple data collection strategies will be used to efficiently capture quantitative and qualitative data to enable analyses that address each evaluation question. The first set of Cross-Center and Center-specific instruments submitted as part of the larger information collection included: Satisfaction surveys to assess recipients' satisfaction; a leadership interview, administered to all State child welfare directors, Tribal child welfare directors, and CIP coordinators that receive services; a Web-based collaboration survey, administered to the directors and staff of the three Centers; assessment tools; and service-specific feedback forms.

This second group of data sources proposed for the Cross-Center Evaluation in this notice include: (1) A capacity survey to capture perceived changes in organizational capacity after receiving Center services; (2) a foundational assessment to capture contextual data regarding the organizational health and functioning of child welfare agencies and courts; (3) a follow-up survey that will examine short-term and intermediate outcomes among CIPs that receive different levels of tailored services following continuous quality improvement (CQI) workshops; and(4)a key informant survey and interview to examine how capacity building services are incorporated into state and tribal activities to support implementation of Public Law 113-183. Additional Center-specific data sources proposed in this notice include (1) registration forms such as webinar and CapLEARN (learning management system) registration forms and (2) service-specific feedback forms and interviews, such as the Center for States Tailored Services interviews and the Center for Courts Universal and Constituency Services survey.

Respondents

Respondents of this second set of data collection instruments will include (1) child welfare agency staff and stakeholders who directly receive services that have been tailored to the needs of their jurisdiction and (2) CIP coordinators, CIP Directors, and other project staff. The proposed data collection will span three years.

Annual Burden Estimates
Instrument | Annual number of respondents | Number of responses per respondent | Average burden hours per response | Total annual burden hours
Capacity Survey | 462 | 1 | .39 | 180.18
Foundational Assessment Survey | 277 | 1 | .1 | 27.7
CQI Workshop Follow-Up Survey | 48 | 2 | .12 | 11.52
P.L.113-183 Key Informant Survey | 52 | 1 | .26 | 13.52
P.L. 113-183 Key Informant Interview | 5 | 1 | 1 | 5
Center for Courts: Universal and Constituency Services | 104 | 1 | .41 | 42.64
Webinar Registration | 4,650 | 1 | .03 | 139.5
Center for States: Tailored Services Interviews | 60 | 1 | 1 | 60
Center for States: Assessment and Work Planning Survey | 150 | 1 | .25 | 37.5
CapLearn Registration | 600 | 1 | .084 | 50.4

Estimated Total Annual Burden Hours: 567.96.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: infocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-13610 Filed 6-8-16; 8:45 am]

BILLING CODE 4184-01-P